DEPARTMENT OF HEALTH AND HUMAN SERVICES

Centers for Medicare & Medicaid Services

[CMS-1660-N]

Medicare Program: Notice of Seven Membership Appointments to the Advisory Panel on Hospital Outpatient Payment

AGENCY: Centers for Medicare & Medicaid Services (CMS), Department of Health and Human Services (HHS).

ACTION: Notice.

SUMMARY: This notice announces seven new membership appointments to the Advisory Panel on Hospital Outpatient Payment (the Panel). The seven new appointments to the Panel will each serve a 4-year period. The new members have terms that begin in Calendar Year (CY) 2016 and end in CY 2020. The purpose of the Panel is to advise the Secretary of the Department of Health and Human Services and the Administrator of the Centers for Medicare & Medicaid Services concerning the clinical integrity of the Ambulatory Payment Classification groups and their relative payment weights. The Panel also addresses and makes recommendations regarding supervision of hospital outpatient therapeutic services. The advice provided by the Panel will be considered as we prepare the annual updates for the hospital outpatient prospective payment system.

The Secretary rechartered the Panel in 2014 for a 2-year period effective through November 6, 2016.

DATES: March 14, 2016.

ADDRESSES: Web site: For additional information on the Panel meeting dates, agenda topics, copy of the charter, and updates to the Panel's activities, we refer readers to our Web site at the following address: https://www.cms.gov/Regulations-and-Guidance/Guidance/FACA/AdvisoryPanelonAmbulatoryPaymentClassificationGroups.html.

FOR FURTHER INFORMATION CONTACT: Designated Federal Official (DFO): Carol Schwartz, DFO, 7500 Security Boulevard, Mail Stop: C4-04-25, Woodlawn, MD 21244-1850. Phone: (410) 786-3985. Email: APCPanel@cms.hhs.gov.

SUPPLEMENTARY INFORMATION:

I. Background

The Secretary of the Department of Health and Human Services (the Secretary) is required by section 1833(t)(9)(A) of the Social Security Act (the Act) (42 U.S.C. 1395l(t)(9)(A)) and section 222 of the Public Health Service Act (PHS Act) (42 U.S.C. 217a) to consult with an expert outside advisory panel on the clinical integrity of the Ambulatory Payment Classification groups and relative payment weights, which are major elements of the Medicare Hospital Outpatient Prospective Payment System (OPPS), and the appropriate supervision level for hospital outpatient therapeutic services. The Panel is governed by the provisions of the Federal Advisory Committee Act (FACA) (Pub. L. 92-463), as amended (5 U.S.C. Appendix 2), which sets forth standards for the formation and use of advisory panels. The Panel Charter provides that the Panel shall meet up to 3 times annually. We consider the technical advice provided by the Panel as we prepare the proposed and final rules to update the OPPS for the following calendar year (CY).

The Panel shall consist of a chair and up to 15 members who are full-time employees of hospitals, hospital systems, or other Medicare providers that are subject to the OPPS. The Secretary or a designee selects the Panel membership based upon either self-nominations or nominations submitted by Medicare providers and other interested organizations of candidates determined to have the required expertise. For supervision deliberations, the Panel shall also include members that represent the interests of Critical Access Hospitals (CAHs), who advice Centers for Medicare & Medicaid Services (CMS) only regarding the level of supervision for hospital outpatient therapeutic services.

New appointments are made in a manner that ensures a balanced membership under the FACA guidelines.

The Panel presently consists of the following members and a Chair.

(Note: The asterisk [*] indicates the Panel members whose terms end during CY 2016, along with the month that the term ends.)

• E. L. Hambrick, M.D., J.D., Chair, a CMS Medical Officer.

• Karen Borman, M.D., F.A.C.S.*(January 2016)

• Dawn L. Francis, M.D., M.H.S.

• Ruth Lande

• Jim Nelson, M.B.A., C.P.A., F.H.F.M.A.*(January 2016)

• Leah Osbahr, M.A., M.P.H.* (January 2016)

• Jacqueline Phillips*(February 2016)

• Johnathan Pregler, M.D.

• Traci Rabine*(January 2016)

• Michael Rabovsky, M.D.

• Wendy Resnick, F.H.F.M.A.

• Michael K. Schroyer, R.N.

• Marianna V. Spanki-Varelas M.D., Ph.D., M.B.A.*(February 2016)

• Norman Thomson, III, M.D.

• Gale Walker*(January 2016)

• Kris Zimmer

II. Provisions of the Notice

We published a notice in the Federal Register on August 28, 2015, entitled “Medicare Program; Solicitation of Nominations to the Advisory Panel on Hospital Outpatient Payment (80 FR 52294). The notice solicited nominations for up to seven new members to fill the vacancies on the Panel beginning in CY 2016. As a result of that notice, we are announcing seven new members to the Panel. The Panel consists of a Chair and 15 members. The seven new Panel member appointments are for 4-year terms beginning March 1, 2016 and will assure that we continue to have a Chair and 15 members available to attend our scheduled meeting.

New Appointments to the Panel

New members of the Panel will have terms beginning on March 1, 2016 and continuing through February 28, 2020 as follows:

• Shelly Dunham, R.N.

• Kenneth Michael Flowe, M.D., M.B.A.

• Erika Hardy, R.H.I.A.

• Karen A. Lambert

• Scott Manaker, M.D., Ph.D.

• Agatha L. Nolen, Ph.D., D.Ph.

• Richard Nordahl, M.B.A.

III. Collection of Information Requirements

This document does not impose information collection requirements, that is, reporting, recordkeeping or third-party disclosure requirements. Consequently, there is no need for review by the Office of Management and Budget under the authority of the Paperwork Reduction Act of 1995 (44 U.S.C. 3501 et seq.).

Dated: February 2, 2016.
Andrew M. Slavitt,
Acting Administrator, Centers for Medicare & Medicaid Services.

[FR Doc. 2016-02798 Filed 2-10-16; 8:45 am]

BILLING CODE 4120-01-P